DEPARTMENT OF HEALTH AND HUMAN SERVICES

Health Resources and Services Administration

Meeting of the Advisory Committee on Interdisciplinary, Community Based Linkages

AGENCY: Health Resources and Services Administration (HRSA), Department of Health and Human Services (HHS).

ACTION: Notice.

SUMMARY: In accordance with the Federal Advisory Committee Act, this notice announces that the Advisory Committee on Interdisciplinary, Community Based Linkages (ACICBL) will hold public meetings for the 2020 calendar year (CY). Information about ACICBL, agendas, and materials for these meetings can be found on the ACICBL website at https://www.hrsa.gov/advisory-committees/interdisciplinary-community-linkages/index.html.

DATES: February 20-21, 2020, 8:30 a.m.-5:00 p.m. Eastern Time (ET) and 8:30 a.m.-2:00 p.m. ET; May 1, 2020, 10:00 a.m.-4:00 p.m. ET; October 20, 2020, 10:00 a.m.-4:00 p.m. ET.

ADDRESSES: The meeting scheduled from February 20-21, 2020, will be held in-person at 5600 Fishers Lane, Room 5E29, Rockville, Maryland 20857 and can be accessed via teleconference and Adobe Connect webinar. The meetings scheduled on May 1, 2020, and October 20, 2020, will both be held via teleconference and Adobe Connect webinar. Instructions for joining the meetings either in-person or remotely will be posted on the ACICBL website 30 business days before the date of the meeting. For meeting information updates, go to the ACICBL website meeting page at https://www.hrsa.gov/advisory-committees/interdisciplinary-community-linkages/meetings/index.html.

FOR FURTHER INFORMATION CONTACT: Joan Weiss, Ph.D., RN, CRNP, FAAN, Senior Advisor and Designated Federal Official, Division of Medicine and Dentistry, HRSA, 5600 Fishers Lane, Rockville, Maryland 20857; 301-443-0430; or BHWACICBL@hrsa.gov.

SUPPLEMENTARY INFORMATION: ACICBL provides advice and recommendations to the Secretary of HHS on policy, program development, and other matters of significance concerning activities under sections 750-760, Title VII, Part D of the Public Health Service Act. Agenda items are subject to change as priorities dictate. ACICBL meetings and agenda items for CY 2020 may include, but are not limited to, discussion and development of topics for the 18th report. Refer to the ACICBL website listed above for all current and updated information concerning each of the CY 2020 ACICBL meetings, including draft agendas and meeting materials that will be posted before each meeting. Agendas will be posted on the ACICBL website at least 14 calendar days before each meeting.

Members of the public will have the opportunity to provide comments. Public participants may submit written statements in advance of the scheduled meetings. Oral comments will be honored in the order they are requested and may be limited as time allows. Requests to submit a written statement or make oral comments to the ACICBL should be sent to Joan Weiss using the contact information above at least 5 business days before the scheduled meeting date.

Individuals who need special assistance or another reasonable accommodation should notify Joan Weiss using the contact information listed above at least 10 business days before the meeting they wish to attend. Since the in-person meeting occurs in a federal government building, attendees must go through a security check to enter the building. Non-U.S. Citizen attendees must notify HRSA of their planned attendance at least 20 business days prior to the meeting in order to facilitate their entry into the building. All attendees are required to present government-issued identification prior to entry.

Maria G. Button,
Director, Executive Secretariat.

[FR Doc. 2019-21797 Filed 10-4-19; 8:45 am]

BILLING CODE 4165-15-P